DEPARTMENT OF TRANSPORTATION

Federal Aviation Administration

Public Notice for Waiver of Aeronautical Land-Use Assurance Bolton Field Airport, Columbus, OH

AGENCY: Federal Aviation Administration, DOT.

ACTION: Notice of intent of waiver with respect to land.

SUMMARY: The Federal Aviation Administration (FAA) is considering a proposal to change a portion of the airport designated aeronautical use to non-aeronautical use and to authorize the release of 1.5411 acres of airport property for an exchange of property between the Columbus Regional Airport Authority (CRAA) and the City of Columbus. The land currently houses a fire station that will remain on the site. The land was conveyed to the City of Columbus in Deed Volume 2806, page 644 of the Recorder's Office, Franklin County, Ohio. The land was acquired by the City of Columbus with funding from Federal Grant 8-39-0026-01. There are no impacts to the airport by allowing the airport to dispose of the property. Approval does not constitute a commitment by the FAA to financially assist in the disposal of the subject airport property nor a determination of eligibility for grant-in-aid funding from the FAA. In exchange, the CRAA will receive a parcel of land (43.562 acres) currently being used as a golf course facility adjacent to Port Columbus International Airport. This parcel is partially located in the existing Runway Protection Zone for Runway 10R-28L and is partially located in the Runway Protection Zone for future Runway 10R-28L as indicated on the approved Airport Layout Plan (ALP) for Port Columbus International Airport. In accordance with section 47107(h) of title 49, United States Code, this notice is required to be published in the Federal Register 30 days before modifying the land-use assurance that requires the property to be used for an aeronautical purpose.

DATES: Comments must be received on or before October 12, 2005.

FOR FURTHER INFORMATION CONTACT: Mary W. Jagiello, Program Manager, Federal Aviation Administration, Great Lakes Region, Detroit Airports District Office, DET ADO-608, 11677 South Wayne Road, Suite 107, Romulus, Michigan 48174. Telephone Number (734) 229-2956/FAX Number (734) 229-2950. Documents reflecting this FAA action may be reviewed at this same location or at Bolton Field Airport, Columbus, Ohio.

SUPPLEMENTARY INFORMATION: Following is a legal description of the property located in Columbus, Franklin County, Ohio, and described as follows:

Beginning for reference at Franklin County Monument #4448, located at the intersection of Alkire Road and Bukey Road (abandoned);

Thence north 87°12′49″ West along the centerline of Alkire Road, a distance of 1322.81 feet to a railroad spike set and the true place of beginning;

Thence South 02°47′11″ West passing a ¾″ iron pipe and cap set at 30.00 feet, a total distance of 274.25 feet to a ¾″ iron pipe and cap set;

Thence North 87°12′49″ West, a distance of 235.89 feet to a ¾″ iron pipe and cap set;

Thence North 00°55′14″ West passing ¾″ iron pipes and caps at 88.48 feet and 244.77 feet, a total distance of 274.83 feet to a railroad spike set in the centerline of Alkire Road;

Thence South 87°12′49″ East along the centerline of said Alkire Road, a distance of 253.66 feet to the place of beginning, containing 1.5411 acres of land and being subject to all legal highways, easements and restrictions of record.

Bearings are based on State Plane Coordinates NAD 83. All ¾″ iron pipes and caps set has the logo S5669.

Issued in Romulus, Michigan on August 5, 2005.
Winsome A. Lenfert,
Acting Manager, Detroit Airports District Office, FAA, Great Lakes Region.

[FR Doc. 05-17989 Filed 9-9-05; 8:45 am]

BILLING CODE 4910-13-M